SUSQUEHANNA RIVER BASIN COMMISSION

Commission Meeting

AGENCY: Susquehanna River Basin Commission.

ACTION: Notice.

SUMMARY: The Susquehanna River Basin Commission will hold its regular business meeting on December 14, 2012, in Annapolis, Maryland. Details concerning the matters to be addressed at the business meeting are contained in the SUPPLEMENTARY INFORMATION section of this notice.

DATES: December 14, 2012, at 8:30 a.m.

ADDRESSES: Lowe House Office Building, House of Delegates, Prince George's Delegation (Room #150), 6 Bladen Street, Annapolis, MD 21401. (The recommended parking and transportation option is to park at the Navy-Marine Corps Memorial Stadium and take the Annapolis Transit Trolley Shuttle from there—for all available parking options, see http://www.downtownannapolis.org/_pages/transport/tr_parking.htm.)

FOR FURTHER INFORMATION CONTACT: Richard A. Cairo, General Counsel, telephone: (717) 238-0423, ext. 306; fax: (717) 238-2436.

Opportunity To Appear and Comment

Interested parties are invited to attend the business meeting and encouraged to review the Commission's Public Meeting Rules of Conduct, which are posted on the Commission's Web site, www.srbc.net. As identified in the public hearing notice referenced below, written comments on the Regulatory Program projects that were the subject of the public hearing, and are listed for action at the business meeting, are subject to a comment deadline of November 26, 2012. Written comments pertaining to any other matters listed for action at the business meeting may be mailed to the Susquehanna River Basin Commission, 1721 North Front Street, Harrisburg, Pennsylvania 17102-2391, or submitted electronically through http://www.srbc.net/pubinfo/publicparticipation.htm. Any such comments mailed or electronically submitted must be received by the Commission on or before December 7, 2012, to be considered.

SUPPLEMENTARY INFORMATION: The business meeting will include actions or presentations on the following items: (1) Presentation on eel collection, stocking and research by the U.S. Fish and Wildlife Service; (2) presentation recognizing former alternate Commissioner Herbert Sachs; (3) resolution concerning FY-2014 federal funding of the Susquehanna Flood Forecast and Warning System and National Streamflow Information Program; (4) Low Flow Protection Policy; (5) proposed rulemaking; (6) ratification/approval of grants; (7) administrative appeal filed by East Hempfield Township Municipal Authority; and (8) Regulatory Program projects. Projects listed for Commission action are those that were the subject of a public hearing conducted by the Commission on November 15, 2012, and identified in the notice for such hearing, which was published in 77 FR 64576, October 22, 2012.

Authority: Pub. L. 91-575, 84 Stat. 1509 et seq., 18 CFR parts 806, 807, and 808.

Dated: November 9, 2012.
Paul O. Swartz,
Executive Director.

[FR Doc. 2012-28355 Filed 11-21-12; 8:45 am]

BILLING CODE 7040-01-P